SMALL BUSINESS ADMINISTRATION

[Declaration of Disaster #3512]

State of West Virginia (Amendment #2)

In accordance with the notice received from the Department of Homeland Security—Federal Emergency Management Agency, effective June 27, 2003, the above numbered declaration is hereby amended to include Berkeley, Lincoln, and Wyoming Counties in the State of West Virginia as a disaster area due to damages caused by severe storms, flooding, and landslides that occurred June 11, 2003 and continuing.

In addition, applications for economic injury loans from small businesses located in the following contiguous counties may be filed until the specified date at the previously designated location: Jefferson and Morgan Counties in the State of West Virginia; Washington County in the State of Maryland; and Clarke and Frederick Counties in the Commonwealth of Virginia. All other counties contiguous to the above named primary counties have been previously declared.

The number for economic injury for the State of Maryland is 9W1500.

All other information remains the same, i.e., the deadline for filing applications for physical damage is August 20, 2003, and for economic injury the deadline is March 22, 2004.

(Catalog of Federal Domestic Assistance Program Nos. 59002 and 59008).
Dated: June 30, 2003.
Herbert L. Mitchell,
Associate Administrator for Disaster Assistance.

[FR Doc. 03-17256 Filed 7-8-03; 8:45 am]

BILLING CODE 8025-01-P